DEPARTMENT OF STATE

[Public Notice: 10667]

Notice of Intent To Re-Establish a Federal Advisory Committee

AGENCY: Department of State.

ACTION: Notice of Intent to Re-Establish the Overseas Schools Advisory Council.

Under the provisions of Public Law 92-463, Federal Advisory Committee Act, notice is hereby given that the Department intends to re-establish the Overseas School Advisory Council. The Department affirms that this advisory committee is necessary and in the public interest.

Good cause: This committee's charter expired on January 27, 2019. The Department was unable to renew the committee's charter prior to the expiration date due to the recent lapse in federal government appropriations. Notices of re-establishment must appear in the Federal Register at least 15 calendar days before a charter is filed unless the Secretariat approves a shorter timeframe for good cause (41 CFR 102-3.65(b)). The Department has requested, and the Secretariat has approved, publication of this notice concurrent with the filing of the charter due to the lapse in appropriations.

Nature and Purpose: The Overseas Schools Advisory Council was established on March 1, 1967, by the Department of State to seek the advice of a selected group of American leaders from the business, foundation, and educational communities, on issues affecting the American-sponsored elementary and secondary schools abroad (hereinafter referred to as “overseas schools”) that are assisted by the Department of State. The main objectives of the Council are:

(a) To advise the Department of State regarding matters of policy and funding for the overseas schools.

(b) To help the overseas schools become showcases for excellence in education.

(c) To help make service abroad more attractive to American citizens who have school-age children, both in the business community and in Government.

(d) To identify methods to mitigate risks to American private sector interests worldwide.

For further information about this advisory committee, please contact: Thomas Shearer, Director of the Office of Overseas Schools, and Executive Secretary for the Committee at (202) 261-8201 or email: shearertp@state.gov.

Thomas P. Shearer,
Director, Office of Overseas Schools, U.S. Department of State.

[FR Doc. 2019-01041 Filed 2-4-19; 8:45 am]

BILLING CODE 4710-24-P